FEDERAL TRADE COMMISSION

Granting of Requests for Early Termination of the Waiting Period Under the Premerger Notification Rules

Section 7A of the Clayton Act, 15 U.S.C. 18a, as added by Title II of the Hart-Scott-Rodino Antitrust Improvements Act of 1976, requires persons contemplating certain mergers or acquisitions to give the Federal Trade Commission and the Assistant Attorney General advance notice and to wait designated periods before consummation of such plans. Section 7A(b)(2) of the Act permits the agencies, in individual cases, to terminate this waiting period prior to its expiration and requires that notice of this action be published in the Federal Register.

The following transactions were granted early termination—on the dates indicated—of the waiting period provided by law and the premerger notification rules. The listing for each transaction includes the transaction number and the parties to the transaction. The grants were made by the Federal Trade Commission and the Assistant Attorney General for the Antitrust Division of the Department of Justice. Neither agency intends to take any action with respect to these proposed acquisitions during the applicable waiting period.

Early Terminations Granted—June 1, 2018 Thru June 30, 2018
06/01/2018
20181214 | G | American Industrial Partners Capital Fund V, L.P.; Gene K. Ponder and Patsy K. Ponder; American Industrial Partners Capital Fund V, L.P.
20181277 | G | Mr. Len Blavatnik; Opendoor Labs Inc.; Mr. Len Blavatnik.
20181284 | G | Permira VI L.P. 1; WeddingWire, Inc.; Permira VI L.P. 1.
06/04/2018
20181236 | G | JLL Partners Fund VII, L.P.; Integer Holdings Corporation; JLL Partners Fund VII, L.P.
20181237 | G | Water Street Healthcare Partners III, L.P.; Integer Holdings Corporation; Water Street Healthcare Partners III, L.P.
20181305 | G | Carl C. Icahn; AmTrust Financial Services, Inc.; Carl C. Icahn.
20181307 | G | DIF Infrastructure V Cooperatief U.A.; Syncora Holdings Ltd.; DIF Infrastructure V Cooperatief U.A.
20181325 | G | Monomoy Capital Partners III, L.P.; EMC Topco, Inc.; Monomoy Capital Partners III, L.P.
20181326 | G | OCP Trust; New Mountain Partners IV Cayman (AIV-A), L.P.; OCP Trust.
20181330 | G | AOT Building Products LP; Versatex Holdings, LLC; AOT Building Products LP.
20181331 | G | TPG Growth IV, L.P.; Audax Private Equity Fund V-A, L.P.; TPG Growth IV, L.P.
20181333 | G | Qingdao Haier Co., Ltd.; Haier Group Corporation; Qingdao Haier Co., Ltd.
20181338 | G | BCP Energy Services Fund-A, LP; BCP Energy Services Fund, LP; BCP Energy Services Fund-A, LP.
20181339 | G | ICG Europe Fund VII SCSp; MV Holding GmbH; ICG Europe Fund VII SCSp.
20181340 | G | Charlesbank Equity Fund IX, Limited; Rockport Blocker, LLC; Charlesbank Equity Fund IX, Limited.
20181341 | G | The Goldman Sachs Group, Inc.; Vail Holdco Corp.; The Goldman Sachs Group, Inc.
20181342 | G | VWR Partners, L.P.; Vail Holdco Corp.; VWR Partners, L.P.
20181343 | G | Wafra Cornerstone Partners L.P.; The Weinstein Company Holdings LLC; Wafra Cornerstone Partners L.P.
20181345 | G | Aretex Capital Partners Fund, LP; Gabriel Hammond; Aretex Capital Partners Fund, LP.
20181357 | G | Madison Dearborn Capital Partners VII-A, L.P.; Aurora Resurgence Fund II L.P.; Madison Dearborn Capital Partners VII-A, L.P.
06/05/2018
20180022 | G | Northrop Grumman Corporation; Orbital ATK, Inc.; Northrop Grumman Corporation.
20181261 | G | Vivus, Inc.; Johnson & Johnson; Vivus, Inc.
20181344 | G | ArcLight Energy Partners Fund VI, L.P.; Enbridge, Inc.; ArcLight Energy Partners Fund VI, L.P.
20181365 | G | Keyera Corp.; Texon Holding II L.P.; Keyera Corp.
06/06/2018
20181275 | G | Johnson & Johnson; HC2 Holdings, Inc.; Johnson & Johnson.
20181354 | G | The Cranemere Group Limited; TPG Growth II DE AIV II, L.P.; The Cranemere Group Limited.
20181355 | G | HCA Healthcare, Inc.; North Cypress Medical Center Operation Company, LTD; HCA Healthcare, Inc.
20181359 | G | Arkoma Drilling, L.P.; Comstock Resources, Inc.; Arkoma Drilling, L.P.
20181360 | G | Williston Drilling, L.P.; Comstock Resources, Inc.; Williston Drilling, L.P.
20181366 | G | DC Capital Partners Fund II, L.P.; Thomas J. Campbell; DC Capital Partners Fund II, L.P.
20181367 | G | Berwind Holding Corp.; Bertram Growth Capital II, L.P.; Berwind Holding Corp.
20181369 | G | Thomas J. Campbell; DC Capital Partners Fund II, L.P.; Thomas J. Campbell.
20181371 | G | Adobe Systems Incorporated; Permira V L.P. 2; Adobe Systems Incorporated.
06/07/2018
20181332 | G | Continental AG; OSRAM Licht AG; Continental AG.
06/08/2018
20181308 | G | Bank of Montreal; KGS Holdings, L.P.; Bank of Montreal.
20181328 | G | R2G Foundation; First Quality Nonwovens, Inc.; R2G Foundation.
20181346 | G | The Middleby Corporation; United Technologies Corporation; The Middleby Corporation.
20181352 | G | Colliers International Group Inc.; Harrison Street Real Estate Capital LLC; Colliers International Group Inc.
20181373 | G | Conifex Timber Inc.; BW SLC AIV III L.P.; Conifex Timber Inc.
20181376 | G | Steel Dynamics, Inc.; Rio Purus Participacoes S/A; Steel Dynamics, Inc.
20181380 | G | David A. Tepper; Carolina PSLFC, LLC; David A. Tepper.
20181401 | G | EQT Mid Market US Limited Partnership; Arlington Capital Partners II, L.P.; EQT Mid Market US Limited Partnership.
20181403 | G | Anthem, Inc.; Aspire Health, Inc.; Anthem, Inc.
06/12/2018
20181351 | G | PS Holdings Independent Trust; Lowe's Companies, Inc.; PS Holdings Independent Trust.
20181400 | G | American Family Insurance Mutual Holding Company; Main Street America Group Mutual Holdings, Inc.; American Family Insurance Mutual Holding Company.
20181402 | G | Elon Musk; Tesla, Inc.; Elon Musk.
20181410 | G | Cornell Capital Partners III LP; AMCP AIV, L.P.; Cornell Capital Partners III LP.
20181415 | G | The Kroger Co.; Relish Labs LLC; The Kroger Co.
06/15/2018
20181348 | G | TransUnion; iovation, Inc.; TransUnion.
06/19/2018
20181246 | G | HS Spinco, Inc.; Direct Vet Marketing, Inc.; HS Spinco, Inc.
20181316 | G | Carl C. Icahn; Dell Technologies Inc.; Carl C. Icahn.
20181317 | G | Carl C. Icahn; Dell Technologies Inc.; Carl C. Icahn.
20181319 | G | The CVRF Trust; Dell Technologies Inc.; The CVRF Trust.
20181323 | G | Carl C. Icahn; Energen Corporation; Carl C. Icahn.
20181392 | G | Bain Capital Fund XII, L.P.; Palermo TT Holdings, Inc.; Bain Capital Fund XII, L.P.
20181404 | G | EQT Corporation; Rice Midstream Partners LP; EQT Corporation.
20181409 | G | GC EOS InvestCo, LLC; Letterone Investment Holdings S.A.; GC EOS InvestCo, LLC.
20181416 | G | Vista Equity Partners Fund VI, L.P.; Integral Ad Science, Inc.; Vista Equity Partners Fund VI, L.P.
20181420 | G | Windjammer Senior Equity Fund IV, L.P.; EXT Acquisitions, Inc.; Windjammer Senior Equity Fund IV, L.P.
20181424 | G | The Resolute Fund IV, L.P.; GlobalTranz Enterprises, Inc.; The Resolute Fund IV, L.P.
20181425 | G | ABRY Senior Equity V, L.P.; SV Holdco, LLC; ABRY Senior Equity V, L.P.
20181427 | G | Kelso Investment Associates IX, L.P.; Michael A. DiMayo; Kelso Investment Associates IX, L.P.
20181428 | G | Kelso Investment Associates IX, L.P.; Kevin E. Myers; Kelso Investment Associates IX, L.P.
20181429 | G | Grammer AG; Industrial Opportunity Partners, L.P.; Grammer AG.
20181432 | G | Superior Plus Corp.; NGL Energy Partners LP; Superior Plus Corp.
20181437 | G | Mrs. Wu Bifeng; Industrial Opportunity Partners, L.P.; Mrs. Wu Bifeng.
20181438 | G | Polaris Industries Inc.; Boat Holdings, LLC; Polaris Industries Inc.
20181439 | G | Fresenius Medical Care AG & Co. KGaA; Humacyte, Inc.; Fresenius Medical Care AG & Co. KGaA.
20181444 | G | Wynnchurch Capital Partners IV, L.P.; Sequel Industrial Products Holdings, LLC; Wynnchurch Capital Partners IV, L.P.
20181447 | G | Partners Group Access 967 L.P.; AI Global Investments & Cy S.C.A.; Partners Group Access 967 L.P.
06/20/2018
20181378 | G | Grand Canyon University Foundation; Grand Canyon Education, Inc.; Grand Canyon University Foundation.
20181398 | G | Axium Infrastructure NA IV L.P.; EIF United States Power Fund IV, L.P.; Axium Infrastructure NA IV L.P.
20181423 | G | Spirit RR Holdings, Inc.; Reorg Research, Inc.; Spirit RR Holdings, Inc.
20181434 | G | WellCare Health Plans, Inc.; Dr. David Cotton and Shery Cotton; WellCare Health Plans, Inc.
20181436 | G | Mrs. Wu Bifeng; Grammer AG; Mrs. Wu Bifeng.
06/21/2018
20181334 | G | BBA Aviation plc; Downstream Aviation, LP; BBA Aviation plc.
20181408 | G | Thoma Bravo Fund XII, L.P.; LogRhythm, Inc.; Thoma Bravo Fund XII, L.P.
06/22/2018
20181364 | G | Eurazeo S.E.; Polycarbon Industries, Inc.; Eurazeo S.E.
20181450 | G | KKR Americas Fund XII, L.P.; Boxer Parent Company Inc.; KKR Americas Fund XII, L.P.
20181454 | G | Spectrum Equity VII, L.P.; Lucid Software Inc.; Spectrum Equity VII, L.P.
20181458 | G | Capgemini SE; Leidos Holdings, Inc.; Capgemini SE.
20181460 | G | Arlington Capital Partners IV, L.P.; Julian A. Guerra; Arlington Capital Partners IV, L.P.
20181461 | G | Hexagon AB; Robert D. Hambrick; Hexagon AB.
20181462 | G | Oak Hill Capital Partners IV (Onshore), L.P.; VetCor Investment Holdings, L.P.; Oak Hill Capital Partners IV (Onshore), L.P.
20181463 | G | H.I.G. Capital Partners V, L.P.; Galaxy Invest Inc.; H.I.G. Capital Partners V, L.P.
20181472 | G | KSLB Group Holdings, LLC; Tyson Family 2009 Trust; KSLB Group Holdings, LLC.
20181474 | G | Qurate Retail, Inc.; Marriott Vacations Worldwide Corporation; Qurate Retail, Inc.
20181475 | G | Audax Private Equity Fund V-A, L.P.; Riverside Capital Appreciation Fund V, L.P.; Audax Private Equity Fund V-A, L.P.
20181484 | G | RYPS, LLC; Conserve School Trust; RYPS, LLC.
20181486 | G | Seidler Equity Partners VI, L.P.; Newell Brands Inc.; Seidler Equity Partners VI, L.P.
20181488 | G | Primavera Capital Partners III L.P.; Zoox, Inc.; Primavera Capital Partners III L.P.
20181493 | G | OCP Trust; Water Street Healthcare Partners III, L.P.; OCP Trust.
20181494 | G | Golden Gate Capital Opportunity Fund, L.P.; Wells Fargo & Company; Golden Gate Capital Opportunity Fund, L.P.
20181497 | G | Aurora Equity Partners V L.P.; Arsenal Capital Partners QP II LP; Aurora Equity Partners V L.P.
06/26/2018
20181449 | G | Intercontinental Exchange, Inc.; TheDebtCenter, LLC; Intercontinental Exchange, Inc.
20181483 | G | Osprey Energy Acquisition Corp.; Royal Resources L.P.; Osprey Energy Acquisition Corp.
20181492 | G | Titan DI Holdings, Inc.; Drilling Info Holdings, Inc.; Titan DI Holdings, Inc.
20181502 | G | CenterPoint Energy, Inc.; Vectren Corporation; CenterPoint Energy, Inc.
06/27/2018
20181473 | G | GCI Liberty, Inc.; LendingTree, Inc.; GCI Liberty, Inc.
06/28/2018
20181452 | G | Elliott Associates, L.P.; Sempra Energy; Elliott Associates, L.P.
20181453 | G | Elliott International Limited; Sempra Energy; Elliott International Limited.
20181455 | G | JSW Energy Interests LP; Sempra Energy; JSW Energy Interests LP.
06/29/2018
20181211 | G | American Well Corporation; Avizia, Inc.; American Well Corporation.

FOR FURTHER INFORMATION CONTACT: Theresa Kingsberry, Program Support Specialist, Federal Trade Commission Premerger Notification Office, Bureau of Competition, Room CC-5301, Washington, DC 20024, (202) 326-3100.

By direction of the Commission.
Donald S. Clark,
Secretary.

[FR Doc. 2018-16025 Filed 7-26-18; 8:45 am]

BILLING CODE 6750-01-P